NUCLEAR REGULATORY COMMISSION

Sunshine Act Meeting Notice

Agency Holding The Meetings: Nuclear Regulatory Commission.

Date: Weeks of January 16, 23, 30; February 6, 13, 20, 2006.

Place: Commissioners' Conference Room, 11555 Rockville Pike, Rockville, Maryland.

Status: Public and closed.

Matters To Be Considered:

Week of January 16, 2006

Tuesday, January 17, 2006

1:30 p.m. Discussion of Security Issues (Closed—Ex. 1 & 3.

Week of January 23, 2006—Tentative

There are no meetings scheduled for the Week of January 23, 2006.

Week of January 30, 2006—Tentative

Tuesday, January 31, 2006

9:30 a.m. Briefing on Strategic Workforce Planning and Human Capital Initiatives (Closed—Ex. 2).

Wednesday, February 1, 2006

9:30 a.m. Discussion of Security Issues (Closed—Ex. 1 & 3).

Week of February 6, 2006—Tentative

Monday, February 6, 2006

9:30 a.m. Briefing on Materials Degradation Issues and Fuel Reliability (Public Meeting). (Contact: Jennifer Uhle, 301-415-6200.)

This meeting will be Webcast live at the Web address— http://www.nrc.gov.

2 p.m. Discussion of Security Issues (Closed—Ex. 1 & 3).

Wednesday, February 8, 2006

9:30 a.m. Briefing on Office of Nuclear Materials Safety and Safeguards (NMSS) Programs, Performance, and Plans—Materials Safety (Public Meeting). (Contact: Teresa Mixon, 301-415-7474; Derk Widmayer, 301-415-6677).

This meeting will be Webcast live at the Web address— http://www.nrc.gov.

1:30 p.m. Briefing on Office of Research (RES) Programs, Performance and Plans (Public Meeting). (Contact: Gene Carpenter, 301-415-7333).

This meeting will be Webcast live at the Web address— http://www.nrc.gov.

Week of February 13, 2006—Tentative

Tuesday, February 14, 2006

2 p.m. Briefing on Office of Nuclear Materials Safety and Safeguards (NMSS) Programs, Performance, and Plans—Waste Safety (Public Meeting). (Contact: Teresa Mixon, 301-415-7474; Derek Widmayer, 301-415-6677).

This meeting will be Webcast live at the Web address— http://www.nrc.gov.

Wednesday, February 15, 2006

9:30 a.m. Briefing on Status of OCFO Programs, Performance, and Plans (Public Meeting). (Contact: Edward New, 301-415-5646).

This meeting will be Webcast live at the Web address— http://www.nrc.gov.

Week of February 20, 2006—Tentative

There are no meetings scheduled for the Week of February, 2006.

*The schedule for Commission meetings is subject to change on short notice. To verify the status of meetings call (recording)—(301) 415-1292. Contact person for more information: Michelle Schroll, (301) 415-1662.

* * * * *

The NRC Commission Meeting Schedule can be found on the Internet at: http//www.nrc.gov/what-we-do/policy-making/schedule.html.

* * * * *

The NRC provides reasonable accommodation to individuals with disabilities where appropriate. If you need a reasonable accommodation to participate in these public meetings, or need this meeting notice or the transcript or other information from the public meetings in another format (e.g., braille, large print), please notify the NRC's Disability Program Coordinator, August Spector, at 301-415-7080, TDD: 301-415-2100, or by e-mail at aks@nrc.gov. Determinations on requests for reasonable accommodation will be made on a case-by-case basis.

* * * * *

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: January 12, 2006.
R. Michelle Schroll,
Office of the Secretary.

[FR Doc. 06-524 Filed 1-17-06; 11:15 am]

BILLING CODE 7590-01-M